DEPARTMENT OF DEFENSE

Department of the Navy

32 CFR Part 752

RIN 0703-AA68

Admiralty Claims

AGENCY: Department of the Navy, DOD.

ACTION: Final rule.

SUMMARY: The Department of the Navy is updating its Admiralty Claims regulations to reflect a change in the Division name and address, to update citations to the United States Code provisions, and to remove the reference to Commander, Fleet Air Caribbean, a command that has been disestablished.

DATES: Effective October 13, 2000.

ADDRESSES: Office of the Judge Advocate General (Code 13), 1322 Patterson Ave SE, Suite 3000, Washington Navy Yard, DC 20374-5066.

FOR FURTHER INFORMATION CONTACT: Commander Gregg A. Crevi, JAGC, U.S. Navy, Deputy Assistant Judge Advocate General (Admiralty and Maritime Law), Office of the Judge Advocate General (Code 11), 1322 Patterson Ave SE, Suite 3000, Washington Navy Yard, DC 20374-5066, (202) 685-5040.

SUPPLEMENTARY INFORMATION: Pursuant to the authority cited below, the Department of the Navy amends 32 CFR part 752. This amendment provides notice that the Deputy Judge Advocate General of the Navy (Admiralty and Maritime Law) has made administrative corrections to the Admiralty Claims regulations. It has been determined that invitation of public comment on this amendment would be impracticable and unnecessary, and it is therefore not required under the public rulemaking provisions of 32 CFR part 336 or Secretary of the Navy Instruction 5720.45. Interested persons, however, are invited to comment in writing on this amendment. All written comments received will be considered in making subsequent amendments or revisions of 32 CFR Part 752, or the instructions on which they are based. Changes may be initiated on the basis of comments received. Written comments should be addressed to Commander Gregg A. Crevi, JAGC, U.S. Navy, Deputy Assistant Judge Advocate General (Admiralty and Maritime Law), Office of the Judge Advocate General (Code 11), 1322 Patterson Ave SE, Suite 3000, Washington Navy Yard, DC 20374-5066. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects

Admiralty, Claims, Salvage.

For the reasons set forth in the preamble, amend part 752 of title 32 of the Code of Federal Regulations as follows:

PART 752—ADMIRALTY CLAIMS

1. The authority citation for 32 CFR part 752 continues to read as follows:

Authority: 5 U.S.C. 301; 10 U.S.C. 5013, 5148, and 7621-7623, 32 CFR 700.206 and 700.1202.

§§ 752.2, 752.3, 752.4, 752.5 [Amended]

2. a. In 32 CFR part 752 remove the words “Admiralty Division” and add, in their place, the words “Admiralty and Maritime Law Division” in the following places:

(1) Section 752.2(b), (c), (d) and (g)

(2) Section 752.4(d)

(3) Section 752.5(a)

b. In addition to the amendments set forth above, in 32 CFR part 752 remove the date “(1982)” following all citations to the United States Code, and add, in its place, the date “(1994)” in the following places:

(1) Section 752.2(a)

(2) Section 752.3(a)

(3) Section 752.4(a) and (c)

(4) Section 752.5(b)

§ 752.2 [Amended]

3. In 32 CFR 752.2(b), remove the words “(Code 31), Navy Department, 200 Stovall Street, Alexandria, VA 22332-2400” and add, in their place, the words “(Code 11), 1322 Patterson Avenue SE, Suite 3000, Washington Navy Yard, DC 20374-5066”.

§ 752.3 [Amended]

4. In 32 CFR 752.3(a), remove the word “(Admiralty)” and add, in its place, the words “(Admiralty and Maritime Law)” and remove the words “Commander Fleet Air, Carribean, for damage to fishing equipment arising in Culebra-Vieques waters, not to exceed $3,000.”

§ 752.5 [Amended]

5. In 32 CFR 752.5(b), remove the words “Washington, DC 20362-5101” and add in their place “2531 Jefferson Davis Highway, NC/3 Room 11E54, Arlington, VA 22242-5160.”

Dated: October 2, 2000.
C.G. Carlson,
Major, U.S. Marine Corps, Alternate Federal Register, Liaison Officer.

[FR Doc. 00-26270 Filed 10-12-00; 8:45 am]

BILLING CODE 3810-FF-P